DEPARTMENT OF THE TREASURY

Bureau of Alcohol, Tobacco and Firearms

27 CFR Parts 1, 4, 5, 7, 12, 19, 20, 22, 24, 40, 55, 70, 71, 200, 275, and 290

[T.D. ATF-463]

RIN 1512-AC43

Rules of Practice in Permit Proceedings; Recodification of Regulations (2000R-529P)

AGENCY: Bureau of Alcohol, Tobacco and Firearms (ATF), Department of the Treasury.

ACTION: Final rule (Treasury decision).

SUMMARY: The Bureau of Alcohol, Tobacco and Firearms (ATF) is recodifying the regulations pertaining to the rules of practice in permit proceedings. The purpose of this recodification is to reissue the regulations in part 200 of title 27 of the Code of Federal Regulations (27 CFR part 200) as 27 CFR part 71. This change improves the organization of title 27.

DATES: This rule is effective on August 15, 2001.

FOR FURTHER INFORMATION CONTACT: Lisa M. Gesser, Regulations Division, Bureau of Alcohol, Tobacco and Firearms, 650 Massachusetts Avenue NW, Washington, DC 20226, (202-927-9347) or e-mail at LMGesser@atfhq.atf.treas.gov.

SUPPLEMENTARY INFORMATION:

Background

As a part of the continuing efforts to reorganize the part numbering system of title 27 CFR, chapter I, ATF is removing part 200, in its entirety, and is recodifying the regulations as 27 CFR part 71. This change improves the organization of title 27 CFR.

In addition to the recodification, ATF is making a technical amendment to part 12 of title 27 CFR, chapter 1. Specifically, we are amending the reference to 27 CFR 71.41(c) to read 27 CFR 70.701(c).

Derivation Table for Part 71
The requirements of section: | Are derived from section:
Subpart A
71.1 | 200.1
71.2 | 200.2
71.3 | 200.3
Subpart B
71.5 | 200.5
Subpart C
71.25 | 200.25
71.26 | 200.26
71.27 | 200.27
71.28 | 200.28
71.29 | 200.29
71.30 | 200.30
71.31 | 200.31
Subpart D
71.35 | 200.35
71.36 | 200.36
71.37 | 200.37
71.38 | 200.38
Subpart E
71.45 | 200.45
71.46 | 200.46
71.48 | 200.48
71.49 | 200.49
71.49a | 200.49a
71.49b | 200.49b
Subpart F
71.55 | 200.55
71.56 | 200.56
71.57 | 200.57
71.58 | 200.58
71.59 | 200.59
71.60 | 200.60
71.61 | 200.61
71.62 | 200.62
71.63 | 200.63
71.64 | 200.64
71.65 | 200.65
71.66 | 200.66
71.67 | 200.67
71.68 | 200.68
71.69 | 200.69
71.70 | 200.70
71.71 | 200.71
71.72 | 200.72
71.73 | 200.73
71.74 | 200.74
71.75 | 200.75
71.76 | 200.76
71.77 | 200.77
71.78 | 200.78
71.79 | 200.79
71.80 | 200.80
71.81 | 200.81
71.82 | 200.82
71.83 | 200.83
71.84 | 200.84
71.85 | 200.85
71.86 | 200.86
71.87 | 200.87
Subpart G
71.95 | 200.95
71.96 | 200.96
71.97 | 200.97
71.98 | 200.98
71.99 | 200.99
71.100 | 200.100
Subpart H
71.105 | 200.105
71.106 | 200.106
71.107 | 200.107
71.107a | 200.107a
71.108 | 200.108
71.109 | 200.109
71.110 | 200.110
Subpart I
71.115 | 200.115
71.116 | 200.116
71.117 | 200.117
71.118 | 200.118
71.119 | 200.119
Subpart J
71.125 | 200.125
71.126 | 200.126
71.127 | 200.127
71.128 | 200.128
71.129 | 200.129

Paperwork Reduction Act

The provisions of the Paperwork Reduction Act of 1995, Public Law 104-13, 44 U.S.C. Chapter 35, and its implementing regulations, 5 CFR part 1320, do not apply to this final rule because there are no new or revised recordkeeping or reporting requirements.

Regulatory Flexibility Act

Because no notice of proposed rulemaking is required for this rule under the Administrative Procedure Act (5 U.S.C. 553), the provisions of the Regulatory Flexibility Act (5 U.S.C. 601 et seq.) do not apply. We sent a copy of this final rule to the Chief Counsel for Advocacy of the Small Business Administration in accordance with 26 U.S.C. 7805(f). No comments were received.

Executive Order 12866

This final rule is not a significant regulatory action as defined in Executive Order 12866. Accordingly, this final rule is not subject to the analysis required by this Executive Order.

Administrative Procedure Act

Because this final rule merely makes technical amendments to improve the clarity and the organization of the regulations, it is unnecessary to issue this final rule with notice and public procedure under 5 U.S.C. 553(b). Similarly, because this final rule makes no substantial changes and is merely the recodification of existing regulations, good cause is found that it is unnecessary to subject this final rule to the effective date limitation of 5 U.S.C. 553(d).

Drafting Information

The principal author of this document is Lisa M. Gesser, Regulations Division, Bureau of Alcohol, Tobacco and Firearms.

List of Subjects

27 CFR Part 1

Administrative practice and procedure, Alcohol and alcoholic beverages, Imports, Liquors, Packaging and containers, Warehouses, Wine.

27 CFR Part 4

Advertising, Customs duties and inspection, Imports, Labeling, Packaging and containers, Reporting and recordkeeping requirements, Trade practices, Wine.

27 CFR Part 5

Advertising, Customs duties and inspection, Imports, Labeling, Liquors, Packaging and containers, Reporting and recordkeeping requirements, Trade practices.

27 CFR Part 7

Advertising, Beer, Customs duties and inspection, Imports, Labeling, Reporting and recordkeeping requirements, Trade practices.

27 CFR Part 12

Imports, Labeling, Wine.

27 CFR Part 19

Caribbean Basin initiative, Claims, Electronic funds transfers, Excise taxes, Exports, Gasohol, Imports, Labeling, Liquors, Packaging and containers, Puerto Rico, Reporting and recordkeeping requirements, Research, Security measures, Surety bonds, Vinegar, Virgin Islands, Warehouses.

27 CFR Part 20

Alcohol and alcoholic beverages, Claims, Cosmetics, Excise taxes, Labeling, Packaging and containers, Penalties, Reporting and recordkeeping requirements, Surety bonds.

27 CFR Part 22

Administrative practice and procedure, Alcohol and alcoholic beverages, Excise taxes, Reporting and recordkeeping requirements, Surety bonds.

27 CFR Part 24

Administrative practice and procedure, Claims, Electronic funds transfers, Excise taxes, Exports, Food additives, Fruit juices, Labeling, Liquors, Packaging and containers, Reporting and recordkeeping requirements, Research, Scientific equipment, Spices and flavorings, Surety bonds, Vinegar, Warehouses, Wine.

27 CFR Part 40

Cigars and cigarettes, Claims, Electronic funds transfers, Excise taxes, Imports, Labeling, Packaging and containers, Reporting and recordkeeping requirements, Surety bonds, Tobacco.

27 CFR Part 55

Administrative practice and procedure, Explosives, Imports, Penalties, Reporting and recordkeeping requirements, Seizures and forfeitures, Warehouses.

27 CFR Part 70

Administrative practice and procedure, Claims, Excise taxes, Freedom of information, Law enforcement, Penalties, Reporting and recordkeeping requirements, Surety bonds.

27 CFR Part 71

Administrative practice and procedure, Alcohol and alcoholic beverages, Tobacco.

27 CFR Part 200

Administrative practice and procedure, Alcohol and alcoholic beverages, Tobacco.

27 CFR Part 275

Cigars and cigarettes, Claims, Customs duties and inspection, Electronic funds transfers, Excise taxes, Imports, Labeling, Packaging and containers, Puerto Rico, Reporting and recordkeeping requirements, Surety bonds, Tobacco, Virgin Islands, Warehouses.

27 CFR Part 290

Aircraft, Armed forces, Cigars and cigarettes, Claims, Customs duties and inspection, Excise taxes, Exports, Foreign trade zones, Labeling, Packaging and containers, Reporting and recordkeeping requirements, Surety bonds, Tobacco, Vessels, Warehouses.

Authority and Issuance

ATF is amending title 27 of the Code of Federal Regulations, chapter I, as follows:

PART 1—BASIC PERMIT REQUIREMENTS UNDER THE FEDERAL ALCOHOL ADMINISTRATION ACT, NONINDUSTRIAL USE OF DISTILLED SPIRITS AND WINE, BULK SALES AND BOTTLING OF DISTILLED SPIRITS

Paragraph 1. The authority citation for 27 CFR part 1 continues to read as follows:

Authority: 27 U.S.C. 203, 204, 206, 211 unless otherwise noted.

§§ 1.1, 1.31, 1.35, 1.50, 1.51, 1.52, and 1.57 [Amended]

Par. 2. Remove the reference to “part 200” and add, in its place, a reference to “part 71” in the following places:

a. Section 1.1(a);

b. Section 1.31;

c. Section 1.35;

d. Section 1.50;

e. Section 1.51;

f. Section 1.52; and

g. Section 1.57.

PART 4—LABELING AND ADVERTISING OF WINE

Par. 3. The authority citation for 27 CFR part 4 continues to read as follows:

Authority: 27 U.S.C. 205, unless otherwise noted.

Par. 4. Under the heading “Cross References,” remove the reference to “27 CFR part 200—Rules of Practice in Permit Proceedings” and add, in part number order, a reference to “27 CFR part 71—Rules of Practice in Permit Proceedings.”

PART 5—LABELING AND ADVERTISING OF DISTILLED SPIRITS

Par. 5. The authority citation for 27 CFR part 5 continues to read as follows:

Authority: 26 U.S.C. 5301, 7805; 27 U.S.C. 205.

§ 5.2 [Amended]

Par. 6. Amend § 5.2 by removing the reference to “27 CFR part 200—Rules of Practice in Permit Proceedings” and adding, in part number order, a reference to “27 CFR part 71—Rules of Practice in Permit Proceedings.”

PART 7—LABELING AND ADVERTISING OF MALT BEVERAGES

Par. 7. The authority citation for 27 CFR part 7 continues to read as follows:

Authority: 27 U.S.C. 205.

§ 7.4 [Amended]

Par. 8. Amend § 7.4 by removing the reference to “27 CFR part 200—Rules of Practice in Permit Proceedings” and adding, in part number order, a reference to “27 CFR part 71—Rules of Practice in Permit Proceedings.”

PART 12—FOREIGN NONGENERIC NAMES OF GEOGRAPHIC SIGNIFICANCE USED IN THE DESIGNATION OF WINES

Par. 9. The authority citation for 27 CFR part 12 continues to read as follows:

Authority: 27 U.S.C. 205.

§ 12.3 [Amended]

Par. 10. Amend paragraph (a) of § 12.3 by removing the reference to “27 CFR 71.41(c)” and adding, in its place, a reference to “27 CFR 70.701(c).”

PART 19—DISTILLED SPIRITS PLANTS

Par. 11. The authority citation for 27 CFR part 19 continues to read as follows:

Authority: 19 U.S.C. 81C, 1131; 26 U.S.C. 5001, 5002, 5004-5006, 5008, 5010, 5041, 5061, 5062, 5066, 5081, 5101, 5111-5113, 5142, 5143, 5146, 5171-5173, 5175, 5176, 5178-5181, 5201-5204, 5206, 5207, 5211-5215, 5221-5223, 5231, 5232, 5235, 5236, 5241-5243, 5271, 5273, 5301, 5311-5313, 5362, 5370, 5373, 5501-5505, 5551-5555, 5559, 5561, 5562, 5601, 5612, 5682, 6001, 6065, 6109, 6302, 6311, 6676, 6806, 7011, 7510, 7805; 31 U.S.C. 9301, 9303, 9304, 9306.

§ 19.3 [Amended]

Par. 12. Amend § 19.3 by removing the reference to “27 CFR part 200—Rules of Practice in Permit Proceedings” and adding, in part number order, a reference to “27 CFR part 71—Rules of Practice in Permit Proceedings.”

§§ 19.161, 19.163, 19.164, 19.911, and 19.950 [Amended]

Par. 13. Remove the reference to “part 200” and add, in its place, a reference to “part 71” in the following places:

a. Section 19.161(c);

b. Section 19.163(f);

c. Section 19.164;

d. Section 19.911(c); and

e. Section 19.950(f).

PART 20—DISTRIBUTION AND USE OF DENATURED ALCOHOL AND RUM

Par. 14. The authority citation for 27 CFR part 20 continues to read as follows:

Authority: 26 U.S.C. 5001, 5206, 5214, 5271-5275, 5552, 5555, 5607, 6065, 7805.

§ 20.3 [Amended]

Par. 15. Amend § 20.3 by removing the reference to “27 CFR part 200—Rules of Practice in Permit Proceedings” and adding, in part number order, a reference to “27 CFR part 71—Rules of Practice in Permit Proceedings.”

§§ 20.44, 20.51, and 20.52 [Amended]

Par. 16. Remove the reference to “part 200” and add, in its place, a reference to “part 71” in the following places:

a. The introductory text of § 20.44;

b. The introductory text of § 20.51; and

c. Section 20.52.

PART 22—DISTRIBUTION AND USE OF TAX-FREE ALCOHOL

Par. 17. The authority citation for 27 CFR part 22 continues to read as follows:

Authority: 26 U.S.C. 5001, 5121, 5142, 5143, 5146, 5206, 5271-5276, 5311, 5552, 5555, 6056, 6061, 6065, 6109, 6151, 6806, 7011, 7805; 31 U.S.C. 9304, 9306.

§ 22.3 [Amended]

Par. 18. Amend § 22.3 by removing the reference to “27 CFR part 200—Rules of Practice in Permit Proceedings” and adding, in part number order, a reference to “27 CFR part 71—Rules of Practice in Permit Proceedings.”

§§ 22.44, 22.51, and 22.52 [Amended]

Par. 19. Remove the reference to “part 200” and add, in its place, a reference to “part 71” in the following places:

a. The introductory text of § 22.44;

b. The introductory text of § 22.51; and

c. Section 22.52.

PART 24—WINE

Par. 20. The authority citation for 27 CFR part 24 continues to read as follows:

Authority: 5 U.S.C. 552(a); 26 U.S.C. 5001, 5008, 5041, 5042, 5044, 5061, 5062, 5081, 5111-5113, 5121, 5122, 5142, 5143, 5173, 5206, 5214, 5215, 5351, 5353, 5354, 5356, 5357, 5361, 5362, 5364-5373, 5381-5388, 5391, 5392, 5511, 5551, 5552, 5661, 5662, 5684, 6065, 6091, 6109, 6301, 6302, 6311, 6651, 6676, 7011, 7302, 7342, 7502, 7503, 7606, 7805, 7851; 31 U.S.C. 9301, 9303, 9304, 9306.

§ 24.4 [Amended]

Par. 21. Amend § 24.4 by removing the reference to “27 CFR part 200—Rules of Practice in Permit Proceedings” and adding, in part number order, a reference to “27 CFR part 71—Rules of Practice in Permit Proceedings.”

PART 40—MANUFACTURE OF TOBACCO PRODUCTS AND CIGARETTE PAPERS AND TUBES

Par. 22. The authority citation for 27 CFR part 40 continues to read as follows:

Authority: 26 U.S.C. 5142, 5143, 5146, 5701, 5703-5705, 5711-5713, 5721-5723, 5731, 5741, 5751, 5753, 5761-5763, 6061, 6065, 6109, 6151, 6301, 6302, 6311, 6313, 6402, 6404, 6423, 6676, 6806, 7011, 7212, 7325, 7342, 7502, 7503, 7606, 7805; 31 U.S.C. 9301, 9303, 9304, 9306.

§§ 40.74 and 40.332 [Amended]

Par. 23. Remove the reference to “part 200” and add, in its place, a reference to “part 71” in the following places:

a. Section 40.74; and

b. Section 40.332.

PART 55—COMMERCE IN EXPLOSIVES

Par. 24. The authority citation for 27 CFR part 55 continues to read as follows:

Authority: 18 U.S.C. 847.

§§ 55.73, 55.75, 55.79, and 55.82 [Amended]

Par. 25. Remove the reference to “part 200” each place it appears, and add, in substitution, a reference to “part 71” in the following places:

a. Section 55.73;

b. Section 55.75;

c. Section 55.79; and

d. The section heading and text of § 55.82.

PART 70—PROCEDURE AND ADMINISTRATION

Par. 26. The authority citation for 27 CFR part 70 continues to read as follows:

Authority: 5 U.S.C. 301 and 552; 26 U.S.C. 4181, 4182, 5146, 5203, 5207, 5275, 5367, 5415, 5504, 5555, 5684(a), 5741, 5761(b), 5802, 6020, 6021, 6064, 6102, 6155, 6159, 6201, 6203, 6204, 6301, 6303, 6311, 6313, 6314, 6321, 6323, 6325, 6326, 6331-6343, 6401-6404, 6407, 6416, 6423, 6501-6503, 6511, 6513, 6514, 6532, 6601, 6602, 6611, 6621, 6622, 6651, 6653, 6656-6658, 6665, 6671, 6672, 6701, 6723, 6801, 6862, 6863, 6901, 7011, 7101, 7102, 7121, 7122, 7207, 7209, 7214, 7304, 7401, 7403, 7406, 7423, 7424, 7425, 7426, 7429, 7430, 7432, 7502, 7503, 7505, 7506, 7513, 7601-7606, 7608-7610, 7622, 7623, 7653, 7805.

§§ 70.411 and 70.431 [Amended]

Par. 27. Remove the reference to “part 200” and add, in its place, a reference to “part 71” in the following places:

a. Section 70.411(c)(5); and

b. Section 70.431(b)(1).

PART 275—IMPORTATION OF TOBACCO PRODUCTS AND CIGARETTE PAPERS AND TUBES

Par. 28. The authority citation for 27 CFR part 275 continues to read as follows:

Authority: 18 U.S.C. 2342; 26 U.S.C. 5701, 5703, 5704, 5705, 5708, 5712, 5713, 5721, 5722, 5723, 5741, 5754, 5761, 5762, 5763, 6301, 6302, 6313, 6404, 7101, 7212, 7342, 7606, 7652, 7805; 31 U.S.C. 9301, 9303, 9304, 9306.

§ 275.199 [Amended]

Par. 29. Amend § 275.199 by removing the reference to “part 200” and adding, in its place, a reference to “part 71.”

PART 290—EXPORTATION OF TOBACCO PRODUCTS AND CIGARETTE PAPERS AND TUBES, WITHOUT PAYMENT OF TAX, OR WITH DRAWBACK OF TAX

Par. 30. The authority citation for 27 CFR part 290 continues to read as follows:

Authority: 26 U.S.C. 5142, 5143, 5146, 5701, 5703-5705, 5711-5713, 5721-5723, 5731, 5741, 5751, 5754, 6061, 6065, 6151, 6402, 6404, 6806, 7011, 7212, 7342, 7606, 7805; 31 U.S.C. 9301, 9303, 9304, 9306.

§§ 290.92 and 290.162 [Amended]

Par. 31. Remove the reference to “part 200” and add, in its place, a reference to “part 71” in the following places:

a. Section 290.92; and

b. Section 290.162.

PART 200—RULES OF PRACTICE IN PERMIT PROCEEDINGS

Par. 32. The authority citation for 27 CFR part 200 continues to read as follows:

Authority: 26 U.S.C. 7805, 27 U.S.C. 204.

PART 200 [Redesignated as part 71]

Par. 33. Redesignate 27 CFR part 200 as 27 CFR part 71.

Par. 33a. Transfer newly designated part 71 from subchapter M to subchapter F.

PART 71—RULES OF PRACTICE IN PERMIT PROCEEDINGS

Par. 34. The authority citation for the newly designated 27 CFR part 71 is revised to read as follows:

Authority: 26 U.S.C. 5271, 5181, 5713, 7805, 27 U.S.C. 204.

§ 71.1 [Amended]

Par. 35. Amend the “Editorial Note” under newly designated § 71.1 by removing the reference to “§ 200.1” and adding, in its place, a reference to “§ 71.1.”

§ 71.37 [Amended]

Par. 36. Amend newly designated § 71.37 by removing the reference to “§§ 200.55 and 200.56” and adding, in its place, a reference to “§§ 71.55 and 71.56.”

§ 71.38 [Amended]

Par. 37. Amend newly designated § 71.38 as follows:

a. Remove the reference to “§ 200.35” and add, in its place, a reference to “§ 71.35.”

b. Remove the reference to “§ 200.71” and add, in its place, a reference to “§ 71.71.”

§ 71.56 [Amended]

Par. 37a. Amend the newly designated “Editorial Note” in § 71.56 by removing the reference to “§ 200.56” and adding, in its place, a reference to “§ 71.56.”

§ 71.62 [Amended]

Par. 38. Amend newly designated § 71.62 by removing the reference to “§ 200.59” and adding, in its place, a reference to “§ 71.59.”

§ 71.63 [Amended]

Par. 39. Amend newly designated § 71.63 as follows:

a. Remove the reference to “§ 200.60” and add, in its place, a reference to “§ 71.60.”

b. Remove the reference to “§ 200.64” and add, in its place, a reference to § 71.64.”

c. Remove the reference to “§ 200.79” and add, in its place, a reference to “§ 71.79.”

§ 71.64 [Amended]

Par. 40. Amend paragraph (a) of newly designated § 71.64 by removing the reference to “§ 200.60” and adding, in its place, a reference to “§ 71.60.”

§ 71.74 [Amended]

Par. 41. Amend newly designated § 71.74 by removing the reference to “§ 200.2” and adding, in its place, a reference to “§ 71.2.”

§ 71.78 [Amended]

Par. 42. Amend newly designated § 71.78 by removing the reference to “§ 200.107” and adding, in its place, a reference to “§ 71.107.”

§ 71.82 [Amended]

Par. 43. Amend newly designated § 71.82 by removing the reference to “§ 200.66” and adding, in its place, a reference to “§ 71.66.”

§ 71.83 [Amended]

Par. 44. Amend newly designated § 71.83 by removing the reference to “§ 200.81” and adding, in its place, a reference to “§ 71.81.”

§ 71.96 [Amended]

Par. 45. Amend newly designated § 71.96 by removing the reference to “§ 200.115” and adding, in its place, a reference to “§ 71.115.”

§ 71.107a [Amended]

Par. 46. Amend paragraph (a) of newly designated § 71.107a by removing the reference to “§ 200.79” and adding, in its place, a reference to “§ 71.79.”

§ 71.108 [Amended]

Par. 47. Amend newly designated § 71.108 as follows:

a. In paragraph (a) remove the reference to “§ 200.115” and add, in its place, a reference to “§ 71.115.”

b. In paragraph (b) remove the reference to “§ 200.79” and add, in its place, a reference to “§ 71.79.”

§ 71.110 [Amended]

Par. 48. Amend newly designated § 71.110 by removing the reference to “§ 200.108” and adding, in its place, a reference to “§ 71.108.”

Dated: April 20, 2001.
Bradley A. Buckles,
Director.
Approved: July 10, 2001.
Timothy E. Skud,
Acting Deputy Assistant Secretary (Regulatory, Tariff and Trade Enforcement).

[FR Doc. 01-20483 Filed 8-14-01; 8:45 am]

BILLING CODE 4810-31-P